DEPARTMENT OF ENERGY

Federal Energy Regulatory Commission

[Docket No. CP02-37-000]

Williston Basin Interstate Pipeline Company; Notice of Route and Site Review

February 14, 2003.

On March 4, 2003, the staff of the Office of Energy Projects (OEP) will conduct a site review of the proposed Grasslands Project pipeline route through the Little Missouri National Grasslands. The Grasslands Project facilities are proposed for construction by Williston Basin Interstate Pipeline Company. The proposed facilities, crossing portions of the Little Missouri National Grasslands in Golden Valley and Billings Counties, North Dakota, will be inspected by automobile.

All interested parties may attend the site visit. Those planning to attend must provide their own transportation. Anyone interested in participating should meet at the U.S. Forest Service's Medora Ranger District Parking Lot, located at 161 21st Street West, Dickinson, North Dakota, at 8:30 a.m. on March 4, 2003. For further information, contact the Commission's Office of External Affairs at 1-866-208-FERC.

Magalie R. Salas,
Secretary.

[FR Doc. 03-4207 Filed 2-21-03; 8:45 am]

BILLING CODE 6717-01-P